DEPARTMENT OF THE INTERIOR

National Park Service

[NPS-WASO-NRNHL-14712; PPWOCRADI0, PCU00RP14.R50000]

National Register of Historic Places; Notification of Pending Nominations and Related Actions

Nominations for the following properties being considered for listing or related actions in the National Register were received by the National Park Service before December 13, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by January 29, 2014. Before including your address, phone number, email address, or other personal identifying information in your comment, you should be aware that your entire comment—including your personal identifying information—may be made publicly available at any time. While you can ask us in your comment to withhold your personal identifying information from public review, we cannot guarantee that we will be able to do so.

Dated: December 20, 2014.
J. Paul Loether,
Chief, National Register of Historic Places/National Historic Landmarks Program.

CALIFORNIA

Marin County

Marinship Machine Shop, 25 Liberty Ship Way, Sausalito, 13001123

LOUISIANA

Caddo Parish

Caddo Parish Confederate Monument, 501 Texas Ave., Shreveport, 13001124

East Baton Rouge Parish

Baker High School Auditorium, 3200 Groom Rd., Baker, 13001125

Baton Rouge Savings and Loan Association, 400 North Blvd., Baton Rouge, 13001126

Orleans Parish

International Trade Mart, 2 Canal St., New Orleans, 13001127

Rapides Parish

Gemiluth Chassodim Synagogue, 2021 Turner St., Alexandria, 13001128

Vermilion Parish

Williams, James Hugh, House, 401 N. St. Charles, Abbeville, 13001129

West Carroll Parish

Fiske Theatre, 306 E. Main St., Oak Grove, 13001130

MASSACHUSETTS

Franklin County

East Leverett Historic District, Shutesbury, January Hills, Still Corner & Cushman Rds., Leverett, 13001131

VERMONT

Windsor County

Blaisdell, Augustus and Laura, House, 517 Depot St., Chester, 13001132

[FR Doc. 2014-00479 Filed 1-13-14; 8:45 am]

BILLING CODE 4312-51-P